DEPARTMENT OF STATE

[Public Notice 6700]

Notice of Request for Public Comments

Title: 60-Day Notice of Proposed Information Collection: DS-1884, Petition to Classify Special Immigrant Under INA 203(b)(4) as an Employee or Former Employee of the U.S. Government Abroad, OMB Control Number 1405-0082.

ACTION: Notice of request for public comments.

SUMMARY: The Department of State is seeking Office of Management and Budget (OMB) approval for the information collection described below. The purpose of this notice is to allow 60 days for public comment in the Federal Register preceding submission to OMB. We are conducting this process in accordance with the Paperwork Reduction Act of 1995.

• Title of Information Collection: Petition to Classify Special Immigrant Under INA 203(b)(4) as an Employee or Former Employee of the U.S. Government Abroad.

• OMB Control Number: 1405-0082.

• Type of Request: Extension of a Currently Approved Collection.

• Originating Office: Bureau of Consular Affairs, Office of Visa Services (CA/VO).

• Form Number: DS-1884.

• Respondents: Aliens petitioning for immigrant visas under INA 203(b)(4).

• Estimated Number of Respondents: 300 per year.

• Estimated Number of Responses: 300 per year.

• Average Hours Per Response: 10 minutes.

• Total Estimated Burden: 50 hours per year.

• Frequency: Once per petition.

• Obligation to Respond: Required to Obtain Benefit.

DATES: The Department will accept comments from the public up to 60 days from September 14, 2009.

ADDRESSES: You may submit comments by any of the following methods:

• E-mail: VisaRegs@state.gov (Subject line must read DS-1884 Reauthorization).

• Mail (paper, disk, or CD-ROM submissions): Chief, Legislation and Regulation Division, Visa Services—DS-1884 Reauthorization, 2401 E. Street, NW., Washington DC 20520-30106.

• Fax: (202) 663-3898.

You must include the DS form number, information collection title, and OMB control number in any correspondence.

FOR FURTHER INFORMATION CONTACT: Direct requests for additional information regarding the collection listed in this notice, including requests for copies of the proposed information collection and supporting documents, to Lauren Prosnik of the Office of Visa Services, U.S. Department of State, 2401 E. Street, NW., L-603, Washington, DC 20522, who may be reached at (202) 663-2951 or prosnikla@state.gov.

SUPPLEMENTARY INFORMATION: We are soliciting public comments to permit the Department to:

• Evaluate whether the proposed information collection is necessary to properly perform our functions.

• Evaluate the accuracy of our estimate of the burden of the proposed collection, including the validity of the methodology and assumptions used.

• Enhance the quality, utility, and clarity of the information to be collected.

• Minimize the reporting burden on those who are to respond, including the use of automated collection techniques or other forms of technology.

Abstract of Proposed Collection

DS-1884 solicits information from petitioners for special immigrant classification under section 203(b)(4) of the Immigration and Nationality Act. An alien is classifiable as a special immigrant under section 203(b)(4) if they meet the statutory qualifications in INA section 101(a)(27)(D). A petitioner may apply within one year of notification by the Department of State that the Secretary has approved a recommendation that special immigrant status be accorded to the alien. DS-1884 solicits information that will assist the consular officer in ensuring that the petitioner is statutorily qualified to receive such status, including meeting the years of service and exceptional service requirements.

Methodology

Petitioners will submit this form to consular officers at post.

Dated: May 28, 2009.
David T. Donahue,
Deputy Assistant Secretary, Bureau of Consular Affairs, Department of State.

[FR Doc. E9-16938 Filed 7-15-09; 8:45 am]

BILLING CODE 4710-06-P